DEPARTMENT OF ENERGY

Federal Energy Regulatory Commission

Combined Notice of Initial Market-Based Rate Filings

April 3, 2008.

Take notice that the Commission received the following filings seeking market-based rate authorization. Such filings may include certain waivers and blanket approvals, including blanket approval under 18 CFR part 34 of all future issuances of securities and assumptions of liability by the applicants:

Docket Numbers: ER08-765-000.

Applicants: KD Power Marketing Services, LLC.

Description: KD Power Marketing Services, LLC submits an Application for Acceptance of Initial Market-Based Rate Tariff, Waivers and Blanket Approvals.

Filed Date: 03/31/2008.

Accession Number: 20080402-0110.

Comment Date: 5 p.m. Eastern Time on Monday, April 21, 2008.

Docket Numbers: ER08-770-000.

Applicants: Longview Power, LLC.

Description: Longview Power, LLC submits a Petition for Acceptance of Initial Rate Schedule, Waivers and Blanket Authorization, and Request for Expedited Treatment.

Filed Date: 03/31/2008.

Accession Number: 20080403-0073.

Comment Date: 5 p.m. Eastern Time on Monday, April 21, 2008.

Docket Numbers: ER08-771-000.

Applicants: North Allegheny Wind, LLC.

Description: North Allegheny Wind, LLC submits an Application for Order Accepting Market-Based Rate Tariff, Granting Waivers and Blanket Authority.

Filed Date: 04/01/2008.

Accession Number: 20080403-0072.

Comment Date: 5 p.m. Eastern Time on Tuesday, April 22, 2008.

Docket Numbers: ER08-776-000.

Applicants: Panda Brandywine LP.

Description: Panda-Brandywine, LP submits an Application for an Order Accepting Initial Market-Based Rate Tariff, Waiving Regulations, and Granting Blanket Approvals.

Filed Date: 04/02/2008.

Accession Number: 20080403-0066.

Comment Date: 5 p.m. Eastern Time on Wednesday, April 23, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please email FERCOnlineSupport@ferc.gov or call (866) 208-3676 (toll free). For TTY, call (202) 502-8659.

Nathaniel J. Davis, Sr.,
Deputy Secretary.

[FR Doc. E8-7436 Filed 4-8-08; 8:45 am]

BILLING CODE 6717-01-P